DEPARTMENT OF ENERGY

Office of Energy Efficiency and Renewable Energy

10 CFR Part 430

[Docket Number EE-RM/TP-97-440]

RIN 1904-AA46

Energy Conservation Program for Consumer Products: Test Procedures for Central Air Conditioners and Heat Pumps

AGENCY: Office of Energy Efficiency and Renewable Energy, Department of Energy.

ACTION: Proposed rule; extension of comment period and rescheduling of public hearing.

SUMMARY: On January 22, 2001, the Department of Energy published a notice of proposed rulemaking (NOPR) (66 FR 6768) to revise the test procedures for central air conditioners and heat pumps. The notice of proposed rulemaking announced that the closing date for receiving public comments would be March 23, 2001. The Air-Conditioning and Refrigeration Institute (ARI) requested that the comment period be extended to allow additional time for understanding the lengthy revisions to the test procedures. The Department agrees to this extension of the comment period to May 23, 2001. The NOPR also announced that a public workshop (hearing) would be held on February 7, 2001. ARI requested that this date be changed to allow more time for preparation. The public workshop is now scheduled for March 29, 2001.

The proposed rule stated that there would be a workshop in the spring of 2001 to discuss modifications to the test procedure to encourage the use of thermostatic expansion valves (TXVs), and to discuss a standard mixed system rating method. This workshop will be held immediately following the proposed test procedure rulemaking workshop, in the same room, on the afternoon of the same date (March 29). The outcome of this second workshop will have no effect on this proposed test procedure rulemaking.

DATES: Comments must be received on or before May 23, 2001. The public workshop (hearing) on the proposed test procedure rulemaking will be held on March 29, 2001, in Washington, DC. The workshop on TXVs and mixed system rating methods will immediately follow, on the same date. Please send requests to speak at the workshop so that we receive them by 4 p.m., March 20, 2001. The Department must also receive ten (10) copies of statements to be given at the public workshop no later than 4 p.m., March 21, 2001, and we request that you provide a computer diskette (WordPerfect 8) of each statement at that time.

ADDRESSES: Please submit written comments and requests to speak at the public hearing to: Michael Raymond, U.S. Department of Energy, Office of Energy Efficiency and Renewable Energy, Hearings and Dockets, Test Procedures for Central Air Conditioners Including Heat Pumps, Docket No. EE-RM-97-440, EE-41, Room 1J-018, Forrestal Building, 1000 Independence Avenue, SW., Washington, DC 20585-0121. You may send an email to: michael.raymond@ee.doe.gov. The hearing will be at the U.S. Department of Energy, Forrestal Building, Room 1E-245, 1000 Independence Avenue, SW., Washington, DC.

FOR FURTHER INFORMATION CONTACT: Michael Raymond at (202) 586-9611, E-mail: michael.raymond@ee.doe.gov, or Eugene Margolis, Esq., (202) 586-9507, E-mail: Eugene.Margolis@HQ.DOE.GOV.

Issued in Washington DC, on March 12, 2001.
Abraham E. Haspel,
Acting Director, Office of Energy Efficiency and Renewable Energy.

[FR Doc. 01-6570 Filed 3-15-01; 8:45 am]

BILLING CODE 6450-01-P